POSTAL REGULATORY COMMISSION

[Docket Nos. CP2023-21; MC2025-189 and K2025-187; MC2025-190 and K2025-188; MC2025-191 and K2025-189; MC2025-192 and K2025-190; MC2025-193 and K2025-191; MC2025-194 and K2025-192; MC2025-195 and K2025-193; MC2025-196 and K2025-194; MC2025-197 and K2025-195; MC2025-198 and K2025-196; MC2025-199 and K2025-197; MC2025-200 and K2025-198; MC2025-201 and K2025-199; MC2025-202 and K2025-200; MC2025-203 and K2025-201; MC2025-204 and K2025-202; MC2025-205 and K2025-203; MC2025-206 and K2025-204; MC2025-207 and K2025-205; MC2025-208 and K2025-206; MC2025-209 and K2025-207; MC2025-210 and K2025-208; MC2025-211 and K2025-209]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: November 6, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: Docket No(s).: CP2023-21; Filing Title: Request of the United States Postal Service Concerning Modification Two to Priority Mail Express International, Priority Mail International & First-Class Package International Service Contract 9, which Includes an Extension of that Agreement; Filing Acceptance Date: October 29, 2024; Filing Authority: 39 U.S.C. 3632, 39 CFR 3035.105, 39 CFR 3041.505, and 39 CFR 3041.515; Public Representative: Katalin Clendenin; Comments Due: November 6, 2024.

2. Docket No(s).: MC2025-189 and K2025-187; Filing Title: USPS Request to Add Priority Mail Express, Priority Mail & USPS Ground Advantage Contract 562 to the Competitive Product List and Notice of Filing Materials Under Seal; Filing Acceptance Date: October 29, 2024; Filing Authority: 39 U.S.C. 3642, 39 CFR 3035.105, and 39 CFR 3041.310; Public Representative: Gregory Stanton; Comments Due: November 6, 2024.

3. Docket No(s).: MC2025-190 and K2025-188; Filing Title: USPS Request to Add Priority Mail Express, Priority Mail & USPS Ground Advantage Contract 563 to the Competitive Product List and Notice of Filing Materials Under Seal; Filing Acceptance Date: October 29, 2024; Filing Authority: 39 U.S.C. 3642, 39 CFR 3035.105, and 39 CFR 3041.310; Public Representative: Christopher Mohr; Comments Due: November 6, 2024.

4. Docket No(s).: MC2025-191 and K2025-189; Filing Title: USPS Request to Add Priority Mail Express, Priority Mail & USPS Ground Advantage Contract 564 to the Competitive Product List and Notice of Filing Materials Under Seal; Filing Acceptance Date: October 29, 2024; Filing Authority: 39 U.S.C. 3642, 39 CFR 3035.105, and 39 CFR 3041.310; Public Representative: Maxine Bradley; Comments Due: November 6, 2024.

5. Docket No(s).: MC2025-192 and K2025-190; Filing Title: USPS Request to Add Priority Mail Express, Priority Mail & USPS Ground Advantage Contract 565 to the Competitive Product List and Notice of Filing Materials Under Seal; Filing Acceptance Date: October 29, 2024; Filing Authority: 39 U.S.C. 3642, 39 CFR 3035.105, and 39 CFR 3041.310; Public Representative: Samuel Robinson; Comments Due: November 6, 2024.

6. Docket No(s).: MC2025-193 and K2025-191; Filing Title: USPS Request to Add Priority Mail Express, Priority Mail & USPS Ground Advantage Contract 566 to the Competitive Product List and Notice of Filing Materials Under Seal; Filing Acceptance Date: October 29, 2024; Filing Authority: 39 U.S.C. 3642, 39 CFR 3035.105, and 39 CFR 3041.310; Public Representative: Almaroof Agoro; Comments Due: November 6, 2024.

7. Docket No(s).: MC2025-194 and K2025-192; Filing Title: USPS Request to Add Priority Mail Express, Priority Mail & USPS Ground Advantage Contract 567 to the Competitive Product List and Notice of Filing Materials Under Seal; Filing Acceptance Date: October 29, 2024; Filing Authority: 39 U.S.C. 3642, 39 CFR 3035.105, and 39 CFR 3041.310; Public Representative: Gregory Stanton; Comments Due: November 6, 2024.

8. Docket No(s).: MC2025-195 and K2025-193; Filing Title: USPS Request to Add Priority Mail Express, Priority Mail & USPS Ground Advantage Contract 568 to the Competitive Product List and Notice of Filing Materials Under Seal; Filing Acceptance Date: October 29, 2024; Filing Authority: 39 U.S.C. 3642, 39 CFR 3035.105, and 39 CFR 3041.310; Public Representative: Gregory Stanton; Comments Due: November 6, 2024.

9. Docket No(s).: MC2025-196 and K2025-194; Filing Title: USPS Request to Add Priority Mail Express, Priority Mail & USPS Ground Advantage Contract 569 to the Competitive Product List and Notice of Filing Materials Under Seal; Filing Acceptance Date: October 29, 2024; Filing Authority: 39 U.S.C. 3642, 39 CFR 3035.105, and 39 CFR 3041.310; Public Representative: Jennaca Upperman; Comments Due: November 6, 2024.

10. Docket No(s).: MC2025-197 and K2025-195; Filing Title: USPS Request to Add Priority Mail Express, Priority Mail & USPS Ground Advantage Contract 570 to the Competitive Product List and Notice of Filing Materials Under Seal; Filing Acceptance Date: October 29, 2024; Filing Authority: 39 U.S.C. 3642, 39 CFR 3035.105, and 39 CFR 3041.310; Public Representative: Jennaca Upperman; Comments Due: November 6, 2024.

11. Docket No(s).: MC2025-198 and K2025-196; Filing Title: USPS Request to Add Priority Mail Express, Priority Mail & USPS Ground Advantage Contract 571 to the Competitive Product List and Notice of Filing Materials Under Seal; Filing Acceptance Date: October 29, 2024; Filing Authority: 39 U.S.C. 3642, 39 CFR 3035.105, and 39 CFR 3041.310; Public Representative: Maxine Bradley; Comments Due: November 6, 2024.

12. Docket No(s).: MC2025-199 and K2025-197; Filing Title: USPS Request to Add Priority Mail Express, Priority Mail & USPS Ground Advantage Contract 572 to the Competitive Product List and Notice of Filing Materials Under Seal; Filing Acceptance Date: October 29, 2024; Filing Authority: 39 U.S.C. 3642, 39 CFR 3035.105, and 39 CFR 3041.310; Public Representative: Christopher Mohr; Comments Due: November 6, 2024.

13. Docket No(s).: MC2025-200 and K2025-198; Filing Title: USPS Request to Add Priority Mail & USPS Ground Advantage Contract 413 to the Competitive Product List and Notice of Filing Materials Under Seal; Filing Acceptance Date: October 29, 2024; Filing Authority: 39 U.S.C. 3642, 39 CFR 3035.105, and 39 CFR 3041.310; Public Representative: Almaroof Agoro; Comments Due: November 6, 2024.

14. Docket No(s).: MC2025-201 and K2025-199; Filing Title: USPS Request to Add Priority Mail & USPS Ground Advantage Contract 414 to the Competitive Product List and Notice of Filing Materials Under Seal; Filing Acceptance Date: October 29, 2024; Filing Authority: 39 U.S.C. 3642, 39 CFR 3035.105, and 39 CFR 3041.310; Public Representative: Almaroof Agoro; Comments Due: November 6, 2024.

15. Docket No(s).: MC2025-202 and K2025-200; Filing Title: USPS Request to Add Priority Mail & USPS Ground Advantage Contract 415 to the Competitive Product List and Notice of Filing Materials Under Seal; Filing Acceptance Date: October 29, 2024; Filing Authority: 39 U.S.C. 3642, 39 CFR 3035.105, and 39 CFR 3041.310; Public Representative: Kenneth Moeller; Comments Due: November 6, 2024.

16. Docket No(s).: MC2025-203 and K2025-201; Filing Title: USPS Request to Add Priority Mail & USPS Ground Advantage Contract 416 to the Competitive Product List and Notice of Filing Materials Under Seal; Filing Acceptance Date: October 29, 2024; Filing Authority: 39 U.S.C. 3642, 39 CFR 3035.105, and 39 CFR 3041.310; Public Representative: Samuel Robinson; Comments Due: November 6, 2024.

17. Docket No(s).: MC2025-204 and K2025-202; Filing Title: USPS Request to Add Priority Mail Express, Priority Mail & USPS Ground Advantage Contract 573 to the Competitive Product List and Notice of Filing Materials Under Seal; Filing Acceptance Date: October 29, 2024; Filing Authority: 39 U.S.C. 3642, 39 CFR 3035.105, and 39 CFR 3041.310; Public Representative: Christopher Mohr; Comments Due: November 6, 2024.

18. Docket No(s).: MC2025-205 and K2025-203; Filing Title: USPS Request to Add Priority Mail Express, Priority Mail & USPS Ground Advantage Contract 574 to the Competitive Product List and Notice of Filing Materials Under Seal; Filing Acceptance Date: October 29, 2024; Filing Authority: 39 U.S.C. 3642, 39 CFR 3035.105, and 39 CFR 3041.310; Public Representative: Kenneth Moeller; Comments Due: November 6, 2024.

19. Docket No(s).: MC2025-206 and K2025-204; Filing Title: USPS Request to Add Priority Mail Express, Priority Mail & USPS Ground Advantage Contract 575 to the Competitive Product List and Notice of Filing Materials Under Seal; Filing Acceptance Date: October 29, 2024; Filing Authority: 39 U.S.C. 3642, 39 CFR 3035.105, and 39 CFR 3041.310; Public Representative: Kenneth Moeller; Comments Due: November 6, 2024.

20. Docket No(s).: MC2025-207 and K2025-205; Filing Title: USPS Request to Add Priority Mail Express, Priority Mail & USPS Ground Advantage Contract 576 to the Competitive Product List and Notice of Filing Materials Under Seal; Filing Acceptance Date: October 29, 2024; Filing Authority: 39 U.S.C. 3642, 39 CFR 3035.105, and 39 CFR 3041.310; Public Representative: Kenneth Moeller; Comments Due: November 6, 2024.

21. Docket No(s).: MC2025-208 and K2025-206; Filing Title: USPS Request to Add Priority Mail Express, Priority Mail & USPS Ground Advantage Contract 577 to the Competitive Product List and Notice of Filing Materials Under Seal; Filing Acceptance Date: October 29, 2024; Filing Authority: 39 U.S.C. 3642, 39 CFR 3035.105, and 39 CFR 3041.310; Public Representative: Jana Slovinska; Comments Due: November 6, 2024.

22. Docket No(s).: MC2025-209 and K2025-207; Filing Title: USPS Request to Add Priority Mail Express, Priority Mail & USPS Ground Advantage Contract 578 to the Competitive Product List and Notice of Filing Materials Under Seal; Filing Acceptance Date: October 29, 2024; Filing Authority: 39 U.S.C. 3642, 39 CFR 3035.105, and 39 CFR 3041.310; Public Representative: Samuel Robinson; Comments Due: November 6, 2024.

23. Docket No(s).: MC2025-210 and K2025-208; Filing Title: USPS Request to Add Priority Mail Express, Priority Mail & USPS Ground Advantage Contract 579 to the Competitive Product List and Notice of Filing Materials Under Seal; Filing Acceptance Date: October 29, 2024; Filing Authority: 39 U.S.C. 3642, 39 CFR 3035.105, and 39 CFR 3041.310; Public Representative: Samuel Robinson; Comments Due: November 6, 2024.

24. Docket No(s).: MC2025-211 and K2025-209; Filing Title: USPS Request to Add Priority Mail & USPS Ground Advantage Contract 417 to the Competitive Product List and Notice of Filing Materials Under Seal; Filing Acceptance Date: October 29, 2024; Filing Authority: 39 U.S.C. 3642, 39 CFR 3035.105, and 39 CFR 3041.310; Public Representative: Almaroof Agoro; Comments Due: November 6, 2024.

III. Summary Proceeding(s)

None. See Section II for public proceedings.

This Notice will be published in the Federal Register.
Erica A. Barker,
Secretary.

[FR Doc. 2024-25841 Filed 11-6-24; 8:45 am]

BILLING CODE 7710-FW-P